NATIONAL FOUNDATION FOR THE ARTS AND THE HUMANITIES

National Endowment for the Arts

President's Committee on the Arts and the Humanities: Meeting #53

Pursuant to section 10 (a) (2) of the Federal Advisory Committee Act (Pub. L. 92-463), as amended, notice is hereby given that a meeting of the President's Committee on the Arts and the Humanities will be held on Thursday, May 22, 2003, from 9:30 a.m. to approximately 3:35 p.m. The meeting will be held at the Inn at Loretto, 211 Santa Fe Trail, Santa Fe, New Mexico.

The Committee meeting will begin at 9 a.m. with a welcome, introductions, announcements and discussion led by Adair Margo, Committee Chairman. This will be followed by speakers on “El Camino Real as History and Metaphor.” After a break, there will be a discussion of Cultural Exchanges between Mexico and the United States. The meeting will adjourn after Closing Remarks.

The President's Committee on the Arts and the Humanities was created by Executive Order in 1982 to advise the President, the two Endowments, and the Institute of Museum and Library Services on measures to encourage private sector support for the nation's cultural institutions and to promote public understanding of the arts and the humanities.

If, in the course of discussion, it becomes necessary for the Committee to discuss non-public commercial or financial information of intrinsic value, the Committee will go into closed session pursuant to subsection (c) (4) of the Government in the Sunshine Act, 5 U.S.C. 552b.

Any interested persons may attend as observers, on a space available basis, but seating is limited. Therefore, for this meeting, individuals wishing to attend must contact Charlotte Hoffman of the President's Committee in advance at (202) 682-5409 or write to the Committee at 1100 Pennsylvania Avenue, NW., Suite 526, Washington, DC 20506. Further information with reference to this meeting can also be obtained from Ms. Hoffman.

If you need special accommodations due to a disability, please contact Ms. Hoffman through the Office of AccessAbility, National Endowment for the Arts, 1100 Pennsylvania Avenue, NW., Washington, DC 20506 202/682-5532, TDY-TDD 202/682-5496, at least seven (7) days prior to the meeting.

Dated: April 22, 2003.
Kathy Plowitz-Worden,
Panel Coordinator, Panel Operations, National Endowment for the Arts.

[FR Doc. 03-10370 Filed 4-25-03; 8:45 am]

BILLING CODE 7537-01-P